DEPARTMENT OF ENERGY

Blue Ribbon Commission on America's Nuclear Future, Reactor and Fuel Cycle Technologies Subcommittee

AGENCY: Office of Nuclear Energy, DOE.

ACTION: Notice of open meeting correction.

On June 21, 2010, the Department of Energy published a notice announcing an open meeting of the Reactor and Fuel Cycle Technologies (RFCT) Subcommittee, 75 FR 35001. In that notice, the date of the meeting listed under DATES was Monday, July 13, 2010 and is incorrect. The correct date is Monday, July 12, 2010.

Also, in that notice under Public Participation it was indicated that the meeting will be available via live audio Webcast. The meeting is now planned to be live video Webcast. Additional information will be available regarding the live video Webcast via the Commission at http://www.brc.gov.

Issued in Washington, DC on June 22, 2010.
Rachel Samuel,
Deputy Committee Management Officer.

[FR Doc. 2010-15596 Filed 6-25-10; 8:45 am]

BILLING CODE 6450-01-P